DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of April 1, 2021 through April 30, 2021. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) The sales or production, or both, of such firm, have decreased absolutely;

AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i)(I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
96,710 | Boomerang Tube, LLC, Liberty Plant Boomerang Tube, LLC and BTSCP, LLC | Liberty, TX | February 5, 2020.
96,731 | Parker Hannifin, Industrial Process Division | Tell City, IN | February 29, 2020.
96,847 | Genex Cooperative | Ithaca, NY | April 13, 2020.

The following certifications have been issued. The requirements of Section 222(a)(2)(B) (Shift in Production or Services to a Foreign Country Path or Acquisition of Articles or Services from a Foreign Country Path) of the Trade Act have been met.

TA-W No. | Subject firm | Location | Impact date
95,764 | Landis+Gyr Technology, Inc., Information Technology, Research & Development, Landis+Gyr AG, etc | Alpharetta, GA | March 3, 2019.
95,764A | Landis+Gyr Technology, Inc., Information Technology, Supply Chain Mgmt, Research & Development, etc | Pequot Lakes, MN | March 3, 2019.
96,302 | Richmond Times, Advertising Production and Design Outsourcing, BH Media Group, Lee BHM Corp | Richmond, VA | September 23, 2019.
96,302A | Fredericksburg Free Lance-Star, Advertising Production and Design Outsourcing, BH Media Group, Lee BHM Corp | Fredericksburg, VA | September 23, 2019.
96,302B | Bristol Herald Courier, Advertising Production and Design Outsourcing, BH Media Group, Lee BHM Corp | Bristol, VA | September 23, 2019.
96,302C | SWVA Today, Advertising Production and Design Outsourcing, BH Media Group, Lee BHM Corp | Wytheville, VA | September 23, 2019.
96,404 | Nationwide Mutual Insurance Company, P&C Commercial Lines Processing | Des Moines, IA | September 25, 2019.
96,404A | Nationwide Mutual Insurance Company, P&C Commercial Lines Processing | Canton, OH | September 25, 2019.
96,404B | Nationwide Mutual Insurance Company, P&C Commercial Lines Processing | Gainesville, FL | September 25, 2019.
96,404C | Nationwide Mutual Insurance Company, P&C Commercial Lines Processing | Harleysville, PA | September 25, 2019.
96,404D | Nationwide Mutual Insurance Company, P&C Commercial Lines Processing | Raleigh, NC | September 25, 2019.
96,500 | DIRECTV Latin America, LLC, California Broadcast Center AT&T Services, Inc | El Segundo, CA | September 29, 2019.
96,521 | Citibank, N.A., Enterprise Infrastructure Operations & Technology (EIO&T) NAM Citi's Realty Services Compliance & Control | New York, NY | October 6, 2019.
96,545 | Encompass Group, LLC, The Pillow Factory | Buffalo Grove, IL | October 8, 2019.
96,546 | Ricoh USA, Inc., Technical Customer Support Division | McLean, VA | October 9, 2019.
96,564 | Continental Automotive, Newport News Plant—Electronic Controls Business Unit Vitesco Technologies USA, LLC | Newport News, VA | October 19, 2019.
96,652 | Nidec Sankyo America Corporation | Shelbyville, IN | December 22, 2019.
96,653 | HCL America, Inc., Engineering, Research & Development, and Digital Process Operations | Boise, ID | December 24, 2019.
96,677 | SunPower Manufacturing Oregon | Hillsboro, OR | January 21, 2020.
96,681 | EquipNet Inc | Canton, MA | January 25, 2020.
96,696 | Keihin Michigan Manufacturing, LLC | Mussey, MI | January 29, 2020.
96,716 | Nidec | Paragould, AR | February 8, 2020.
96,720 | Capgemini America, Inc., Financial Services | Rosemont, IL | February 10, 2020.
96,735 | Learjet, Inc, Wichita Site | Wichita, KS | February 22, 2021.
96,748 | Kerry | Fredericksburg, IA | February 24, 2020.
96,751 | Flexitech, Inc | Bloomington, IL | February 25, 2020.
96,756 | Monotype Imaging Inc., Accounting and Financial Reporting Group | Woburn, MA | February 28, 2020.
96,759 | Bucyrus Precision Tech, Inc | Bucyrus, OH | March 1, 2020.
96,770 | Hologic, Inc., Post Market Surveillance Team | Marlborough, MA | March 5, 2020.
96,772 | BASF | Muskegon, MI | March 8, 2020.
96,775 | Levolor, Inc., a subsidiary of Hunter Douglas | Ogden, UT | March 8, 2020.
96,776 | Vestas Blades America, Inc | Brighton, CO | March 9, 2020.
96,777 | Siemens Energy | Olean, NY | March 9, 2020.
96,786 | Deluxe Corporation | Groton, MA | March 11, 2020.
96,787 | BASF Corporation, West Memphis Dispersions and Resins | West Memphis, AR | March 11, 2020.
96,831 | Metaldyne Powertrain Components, LLC, AAM Litchfield Manufacturing, Driveline Division AAM | Litchfield, MI | April 5, 2020.
96,839 | Webster Bank, N.A., Information Technology Department | New Britain, CT | April 8, 2020.
96,845 | Schneider Electric | Foxboro, MA | April 13, 2020.
96,854 | JMS Foodservice, LLC, a wholly-owned indirect subsidiary of The J.M. Smucker Company | Suffolk, VA | April 15, 2020.
96,857 | HYDRO Systems USA | Kent, WA | April 15, 2020.

The following certifications have been issued. The requirements of Section 222(b) (supplier to a firm whose workers are certified eligible to apply for TAA) of the Trade Act have been met.

TA-W No. | Subject firm | Location | Impact date
96,605 | Aurora Flight Sciences Corporation, Aurora Research & Prototyping | Manassas, VA | November 9, 2019.
96,749 | Selmet, Inc., a CPP Company | Albany, OR | February 24, 2020.

The following certifications have been issued. The requirements of Section 222(e) (firms identified by the International Trade Commission) of the Trade Act have been met.

TA-W No. | Subject firm | Location | Impact date
96,757 | Woodgrain | Marion, VA | February 17, 2020.
96,761 | Delaware Dynamics, LLC | Muncie, IN | January 29, 2020.
96,778 | Trace-A-Matic Corporation | Houston, TX | January 29, 2020.
96,779 | ProSource Trace-A-Matic LLC, a subsidiary of Trace-A-Matic Corporation | Houston, TX | January 29, 2020.
96,780 | TNN Manufacturing | Houston, TX | January 29, 2020.
96,791 | Eastham Forge, Inc., a subsidiary of Eastham Enterprise, Inc | Beaumont, TX | January 29, 2020.
96,809 | Cascade Wood Products, Inc | White City, OR | February 17, 2020.
96,811 | Bright Wood Corporation | Madras, OR | February 17, 2020.
96,835 | Novo Manufacturing, LJ Smith, LLC—Bowerston | Bowerston, OH | February 17, 2020.
96,836 | Endura Products, Inc | Nacogdoches, TX | February 17, 2020.
96,855 | Wincom, Incorporated | Blue Ash, OH | March 18, 2020.

Negative Determinations for Worker Adjustment Assistance

In the following cases, the investigation revealed that the eligibility criteria for TAA have not been met for the reasons specified.

The investigation revealed that the requirements of Trade Act section 222(a)(1) and (b)(1) (significant worker total/partial separation or threat of total/partial separation), or (e) (firms identified by the International Trade Commission), have not been met.

TA-W No. | Subject firm | Location | Impact date
96,550 | Collins Aerospace (Rockwell Collins) | Wilsonville, OR. |

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,299 | Dynegy Midwest Generation, LLC, Havana Power Plant, Dynegy Coal Holdco, Vistra Energy, Securitas, etc | Havana, IL. |
95,764B | Landis+Gyr Technology, Inc., Customer Delivery, Landis+Gyr AG, Digital Intelligence Systems, LLC | Alpharetta, GA. |
95,764C | Landis+Gyr Technology, Inc., Customer Delivery, Landis+Gyr AG, Pro Staff | Pequot Lakes, MN. |
96,548 | Hair Salon | Middletown, OH. |
96,565 | Domtar A.W. LLC., Paper Division | Ashdown, AR. |
96,717 | Comprehensive Decommissioning International | Plymouth, MA. |
96,747 | Pierce Pacific Manufacturing Inc | Portland, OR. |
96,762 | Clayton Manufacturing Company, Maintenance and Service Division | City of Industry, CA. |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
96,556 | Diversant working on-site at SAP America, Inc | Newton Square, PA. |

The following determinations terminating investigations were issued in cases where the petition regarding the investigation has been deemed invalid.

TA-W No. | Subject firm | Location | Impact date
96,622 | Paul Hughes | Council Bluffs, IA
96,769 | Col-fin Specialty Steel Corporation | Monaca, PA

The following determinations terminating investigations were issued because the worker group on whose behalf the petition was filed is covered under an existing certification.

TA-W No. | Subject firm | Location | Impact date
95,920 | Parallon, Parallon Coder Group | Richmond, VA. |

I hereby certify that the aforementioned determinations were issued during the period of April 1, 2021 through April 30, 2021. These determinations are available on the Department's website https://www.doleta.gov/tradeact/petitioners/taa_search_form.cfm under the searchable listing determinations or by calling the Office of Trade Adjustment Assistance toll free at 888-365-6822.

Signed at Washington, DC, this 6th day of May 2021.
Hope D. Kinglock,
Certifying Officer, Office of Trade Adjustment Assistance.

[FR Doc. 2021-10526 Filed 5-18-21; 8:45 am]

BILLING CODE 4510-FN-P